SMALL BUSINESS ADMINISTRATION

[License No. 02/02-0658]

OFS SBIC I, L.P.; Notice Seeking Exemption Under Section 312 of the Small Business Investment Act, Conflicts of Interest

Notice is hereby given that OFS SBIC I, L.P., 540 Madison Avenue, Floor 8, New York, NY 10022, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). OFS SBIC I, L.P., is seeking a written exemption from SBA for a proposed financing to Chemical Resources Holdings, Inc., 103 Carnegie Center, Suite 100, Princeton, NJ 08540.

The financing is brought within the purview of § 107.730(a) of the Regulations because OFS SBIC I, L.P. will participate in a follow-on transaction where its Associates own more than 10% equity ownership in the company, Chemical Resources Holdings, Inc., therefore this transaction is considered Financing which constitute conflicts of interest requiring SBA's prior written exemption. OFS SBIC I, L.P. has not made its investment in Chemical Resources Holdings, Inc and is seeking pre-financing SBA approval.

Notice is hereby given that any interested person may submit written comments on this transaction within fifteen days of the date of this publication to the Associate Administrator, Office of Investment and Innovation, U.S. Small Business Administration, 409 Third Street SW, Washington, DC 20416.

Small Business Administration.
Thomas G. Morris,
Acting Associate Administrator, Director, Office of Liquidation, Office of Investment and Innovation.

[FR Doc. 2021-06810 Filed 4-1-21; 8:45 am]

BILLING CODE P